DEPARTMENT OF THE INTERIOR

Office of the Special Trustee for American Indians

[15XD0120AF-DT21200000-DST000000-T7AC00.241A]

Notice of Proposed Renewal of Information Collection: OMB Control Number 1035-0003, Application to Withdraw Tribal Funds From Trust Status

AGENCY: Office of the Special Trustee for American Indians, Interior.

ACTION: Notice and request for comments.

SUMMARY: In compliance with section 3506(c)(2)(A) of the Paperwork Reduction Act of 1995, the Office of the Special Trustee for American Indians, Department of the Interior, is announcing its intention to request renewal approval for the collection of information for Application to Withdraw Tribal Funds from Trust Status, OMB Control Number 1035-0003. This collection request has been forwarded to the Office of Management and Budget (OMB) for review and approval. The information collection request (ICR) describes the nature of the information collection and the expected burden and cost.

DATES: OMB has up to 60 days to approve or disapprove the information collection request, but may respond after 30 days; therefore, public comments should be submitted to OMB by February 8, 2016, in order to be assured of consideration.

ADDRESSES: Submit comments to the Office of Information and Regulatory Affairs, Office of Management and Budget, Attention: Desk Officer for the Department of the Interior (1035-0003), by telefax at (202) 395-5806 or via email to OIRA_submission@omb.eop.gov. Also, please send a copy of your comments to the Office of the Special Trustee, Office of External Affairs, Attn: Roberson D. Becenti, 4400 Masthead St. NE., Room 259A, Albuquerque, New Mexico 87109. You may also email comments to roberson_becenti@ost.doi.gov. Individuals providing comments should reference OMB control number 1035-0003, “Application to Withdraw Tribal Funds from Trust Status, 25 CFR 1200.”

FOR FURTHER INFORMATION CONTACT: To request more information on this information collection or to obtain a copy of the collection instrument, see the contact information provided in the ADDRESSES section above. To see a copy of the entire ICR submitted to OMB, go to: http://www.reginfo.gov and select Information Collection Review, Currently Under Review.

SUPPLEMTARY INFORMATION:

I. Abstract

Office of Management and Budget (OMB) regulations at 5 CFR 1320, which implement the Paperwork Reduction Act of 1995 (Pub. L. 104-131), require that interested members of the public and affected parties have an opportunity to comment on information collection and recordkeeping activities (see 5 CFR 1320.8(d). This notice identifies an information collection activity that the Office of the Special Trustee for American Indians has submitted to OMB for renewal.

Public Law 103-412, The American Indian Trust Fund Management Reform Act of 1994 (Act), allows Indian tribes on a voluntary basis to take their funds out of trust status within the Department of the Interior (and the Federal Government) in order to manage and invest such funds on their own. 25 CFR part 1200, subpart B, Sec. 1200.13, “How does a tribe apply to withdraw funds?” describes the requirements for application for withdrawal. The Act covers all tribal trust funds including judgment funds as well as some settlements funds, but excludes funds held in Individual Indian Money accounts. Both the Act and the regulations state that upon withdrawal of the funds, the Department of the Interior (and the Federal Government) have no further liability for such funds. Accompanying their application for withdrawal of trust funds, tribes are required to submit a Management Plan for managing the funds being withdrawn, to protect the funds once they are out of trust status.

This information collection allows the Office of the Special Trustee for American Indians to collect the tribes' applications for withdrawal of funds held in trust by the Department of the Interior. If this information were not collected, the Office of the Special Trustee for American Indians would not be able to comply with the American Indian Trust Fund Management Reform Act of 1994 (Pub. L. 103-412), and tribes would not be able to withdraw funds held for them in trust by the Department of the Interior.

II. Data

(1) Title: Application to Withdraw Tribal Funds from Trust Status, 25 CFR 1200.

OMB Control Number: 1035-0003.

Current Expiration Date: January 31, 2016

Type of Review: Extension without change of a currently approved collection.

Affected Entities: Tribal Governments.

Estimated annual number of respondents: One respondent per year.

Frequency of response: Once per tribe per trust fund withdrawal application.

(2) Annual reporting and record keeping burden:

Total annualized reporting per respondent: 1.

Total annualized reporting: 750 hours.

(3) Description of the need and use of the information: The statutorily-required information is needed to approve tribal applications to withdraw funds from accounts held in trust for tribes by the United States Government, for self-management.

(4) As required under 5 CFR 1320.8(d), a Federal Register notice soliciting comments on the information collection was published on October 19, 2015 (80 FR 63253). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information techniques.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

It is our policy to make all comments available to the public for review. Before including Personally Identifiable Information (PII), such as your address, phone number, email address, or other personal information in your comments(s), you should be aware that your entire comment (including PII) may be made available to the public at any time. While you may ask us in your comment to withhold PII from public view, we cannot guarantee that we will be able to do so. If you wish to view any comments received, you may do so by scheduling an appointment with the Office of the Special Trustee for American Indians by using the contact information in the ADDRESSES section above. A valid picture identification is required for entry into the Department of the Interior.

An agency may not conduct or sponsor, and a person is not required to respond to, a collection of information unless it displays a currently valid Office of Management and Budget control number.

Dated: December 30, 2015.
David Beeksma,
Director, Office of External Affairs, Office of the Special Trustee for American Indians.

[FR Doc. 2016-00109 Filed 1-7-16; 8:45 am]

BILLING CODE 4334-63-P